DEPARTMENT OF COMMERCE

International Trade Administration

15 CFR Part 303

Watch, Watch Instruments, and Jewelry Program

CFR Correction

In Title 15 of the Code of Federal Regulations, Parts 300 to 799, revised as of January 1, 2015, on page 38, in § 303.17, in paragraph (c), remove the last sentence and add the following two sentences in its place: “It is the responsibility of each program producer to make the appropriate data available to the Departments' officials for the calendar year for which the annual verification is being performed and no further data, from the calendar year for which the audit is being completed, will be considered for benefits at any time after the audit has been completed. In the event of discrepancies between the application and substantiating data before the audit is complete, the Secretaries shall determine which data will be used in the calculation of the duty refund and allocations.”

[FR Doc. 2015-28284 Filed 11-5-15; 8:45 am]

BILLING CODE 1505-01-D